COMMITTEE FOR THE IMPLEMENTATION OF TEXTILE AGREEMENTS

Denial of Short Supply Request under the United States—Caribbean Basin Trade Partnership Act (CBTPA)

May 24, 2001.

AGENCY: Committee for the Implementation of Textile Agreements (CITA)

ACTION: Denial of the petition alleging 100 percent polyester yarn of 150 denier/140 filament textured polyester containing one end of 75/70 cationic dyeable polyester intermingled with one end of 75/70 disperse dyeable polyester, for use in knit fabric, cannot be supplied by the domestic industry in commercial quantities in a timely manner.

FOR FURTHER INFORMATION CONTACT: Lori Mennitt, International Trade Specialist, Office of Textiles and Apparel, U.S. Department of Commerce, (202) 482-3400.

SUMMARY: On March 26, 2001 the Chairman of CITA received a petition from Val D'or and Malden Mills alleging that 100 percent polyester yarn of 150 denier/140 filament textured polyester containing one end of 75/70 cationic dyeable polyester intermingled with one end of 75/70 disperse dyeable polyester, for use in knit fabric, classified in subheading 5402.33.60 of the Harmonized Tariff Schedule of the United States (HTSUS), cannot be supplied by the domestic industry in commercial quantities in a timely manner. It requested that the President proclaim that apparel articles of U.S. formed fabrics of such yarns be eligible for preferential treatment under the CBTPA. Based on currently available information, CITA has determined that U.S. producers have the ability to supply this product in commercial quantities in a timely manner and therefore denies the petition.

SUPPLEMENTARY INFORMATION:

Authority: Section 213(b)(2)(A)(v)(II) of the Caribbean Basin Economic Recovery Act, as added by Section 211(a) of the CBTPA; Section 6 of Executive Order No. 13191 of January 17, 2001.

Background

The CBTPA provides for quota- and duty-free treatment for qualifying textile and apparel products. Such treatment is generally limited to products manufactured from yarns or fabrics formed in the United States or a beneficiary country. The CBTPA also provides for quota- and duty-free treatment for apparel articles that are both cut (or knit-to-shape) and sewn or otherwise assembled in one or more CBTPA beneficiary countries from fabric or yarn that is not formed in the United States or a CBTPA beneficiary country, if it has been determined that such fabric or yarn cannot be supplied by the domestic industry in commercial quantities in a timely manner and the President has proclaimed such treatment. In Executive Order No. 13191, the President delegated to CITA the authority to determine whether yarns or fabrics cannot be supplied by the domestic industry in commercial quantities in a timely manner under the CBTPA and directed CITA to establish procedures to ensure appropriate public participation in any such determination. On March 6, 2001, CITA published procedures that it will follow in considering requests. (66 FR 13502).

On March 26, 2001 the Chairman of CITA received a petition from Val D'or and Malden Mills alleging that 100 percent polyester yarn of 150 denier/140 filament textured polyester containing one end of 75/70 cationic dyeable polyester intermingled with one end of 75/70 disperse dyeable polyester, for use in knit fabric, classified in subheading 5402.33.60 of the HTSUS, cannot be supplied by the domestic industry in commercial quantities in a timely manner. They requested that the President proclaim that apparel articles of U.S. formed fabrics of such yarns be eligible for preferential treatment under the CBTPA. CITA solicited public comments regarding this request (66 FR 17534, published on April 2, 2001) particularly with respect to whether this yarn can be supplied by the domestic industry in commercial quantities in a timely manner.

Based on its review of the petition and the information received, CITA has determined that the petition has not established that this yarn cannot be supplied by the domestic industry in commercial quantities in a timely manner. CITA finds that there is substantial U.S. capacity to produce this yarn, and the petition does not demonstrate the contrary. CITA concludes in the context of this petition that U.S. producers have the ability to supply this yarn in commercial quantities in a timely manner. Val D'or and Malden Mills' request is denied.

D. Michael Hutchinson,
Acting Chairman, Committee for the Implementation of Textile Agreements.

[FR Doc.01-13664 Filed 5-25-01; 2:30 pm]

BILLING CODE 3510-DR-F